GENERAL SERVICES ADMINISTRATION

41 CFR Chs. 102 and 303

48 CFR Chapter 5

Unified Agenda of Federal Regulatory and Deregulatory Actions

AGENCY: General Services Administration (GSA).

ACTION: Semiannual Regulatory Agenda.

SUMMARY: This agenda announces the proposed regulatory actions that GSA plans for the next 12 months and those that were completed since the fall 2013 edition. This agenda was developed under the guidelines of Executive Order 12866 “Regulatory Planning and Review.” GSA's purpose in publishing this agenda is to allow interested persons an opportunity to participate in the rulemaking process. GSA also invites interested persons to recommend existing significant regulations for review to determine whether they should be modified or eliminated. Proposed rules may be reviewed in their entirety at the Government's rulemaking Web site at http://www.regulations.gov.

Since the fall 2007 edition, the Internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including GSA's regulatory plan.

FOR FURTHER INFORMATION CONTACT: Hada Flowers, Division Director, Regulatory Secretariat Division at (202) 501-4755.

Dated: March 7, 2014.
Anne Rung,
Associate Administrator, Office of Governmentwide Policy.

General Services Administration—Proposed Rule Stage
Sequence No. | Title | Regulation Identifier No.
240 | General Services Administration Acquisition Regulation (GSAR); GSAR Case 2013-G502, Federal Supply Schedule Contracting (Administrative Changes) | 3090-AJ41
241 | General Services Administration Acquisition Regulation (GSAR); GSAR Case 2010-G511, Purchasing by Non-Federal Entities | 3090-AJ43

General Services Administration—Completed Actions
Sequence No. | Title | Regulation Identifier No.
242 | General Services Administration Acquisition Regulation (GSAR); GSAR Case 2012-G501; Electronic Contracting Initiative | 3090-AJ36

GENERAL SERVICES ADMINISTRATION (GSA)

Proposed Rule Stage

240. • General Services Administration Acquisition Regulation (GSAR); GSAR Case 2013-G502, Federal Supply Schedule Contracting (Administrative Changes)

Legal Authority: 5 U.S.C. 5738; 20 U.S.C. 905(a); EO 11609

Abstract: General Services Administration is proposing to amend the General Services Administration Acquisition Regulation (GSAR) to update and streamline the text addressing GSAR Part 515, Contracting by Negotiation; GSAR Part 538, Federal Supply Schedule Contracting; and corresponding provisions and clauses in GSAR Part 552, Solicitation Provisions and Contract Clauses. The passage of time since the last rewrite of the General Service Acquisition Manual necessitates several changes, additions, and/or deletions to the regulations.

Timetable:

Action | Date | FR Cite
Proposed Rule | 05/00/14

Regulatory Flexibility Analysis Required: Yes.

Agency Contact: Dana L. Munson, Procurement Analyst, General Services Administration, 1800 F Street NW., Washington, DC 20405, Phone: 202 357-9652, Email: dana.munson@gsa.gov.

RIN: 3090-AJ41

241. • General Services Administration Acquisition Regulation (GSAR); GSAR Case 2010-G511, Purchasing by Non-Federal Entities

Legal Authority: 40 U.S.C. 121(c)

Abstract: The General Services Administration (GSA) is issuing a proposed rule amending the General Services Administration Acquisition Regulation (GSAR) part 511, Describing Agency Needs, to implement the Federal Supply Schedules Usage Act of 2010 (Pub. L. 111-263) (FSSUA), the Native American Housing Assistance and Self-Determination Reauthorization Act of 2008 (Pub. L. 110-411) (NAHASDA), the John Warner National Defense Authorization Act for Fiscal Year 2007 (Pub. L. 109-364) (NDAA), and the Local Preparedness Acquisition Act for Fiscal Year 2008 (Pub. L. 110-248) (LPAA). GSA is also amending GSAR part 538, Federal Supply Schedule Contracting, and GSAR part 552, Solicitation Provisions and Contract Clauses, in regard to this statutory implementation.

The FSSUA provided increased access to GSA's Federal Supply Schedules (Schedules). Specifically, section 2 of the Act added subsection 40 U.S.C. 502(e), authorizing the use of the Schedules by the American National Red Cross and other qualified organizations in certain circumstances.

Further, section 3 of the FSSUA added subsection 40 U.S.C. 502(f), which requires all users of the Schedules, including non-Federal users, to use the contracts in accordance with the ordering guidance provided by the Administrator of the General Services. GSA encourages non-Federal users to follow the Schedules ordering procedures set forth in the Federal Acquisition Regulation (FAR) 8.4; however, non-Federal users may use different established competitive ordering procedures if such procedures are needed to satisfy their state or local acquisition regulations and/or organizational policies.

Finally, section 4 of the FSSUA further amended 40 U.S.C. 502 to include additional purchasing authority for state or local governments by inserting “to facilitate disaster preparedness or response,” after “Robert T. Stafford Disaster Relief and Emergency Assistance Act (42 U.S.C. 5121, et seq..)” in 40 U.S.C. 502(d)(1).

In terms of other authorities, GSA is amending the GSAR to implement section 101 of NAHASDA, codified at 25 U.S.C. 4111(j), which provides that certain tribes or tribally designated housing entities may access GSA's sources of supply.

Additionally, GSA is amending GSAR parts 511, 538, and 552 to implement Section 833 of the NDAA, which amended 40 U.S.C 502(d)(1) to authorize the Administrator of General Services to provide to state or local governments the use of GSA's Schedules for the purchase of goods or services to be used to facilitate recovery from a declared major disaster, terrorism, or nuclear, biological, chemical, or radiological attack.

Finally, the LPAA amended 40 U.S.C. 502(c), by authorizing the Administrator of General Services to provide to state or local governments the use of GSA's Schedules for the acquisition of law enforcement, security, and certain other related items.

Timetable:

Action | Date | FR Cite
NPRM | 05/00/14

Regulatory Flexibility Analysis Required: Yes.

Agency Contact: Dana L. Munson, Procurement Analyst, General Services Administration, 1800 F Street NW., Washington, DC 20405, Phone: 202 357-9652, Email: dana.munson@gsa.gov.

RIN: 3090-AJ43

GENERAL SERVICES ADMINISTRATION (GSA)

Completed Actions

242. General Services Administration Acquisition Regulation (GSAR); GSAR Case 2012-G501; Electronic Contracting Initiative

Legal Authority: 40 U.S.C. 121(c)

Abstract: The General Services Administration (GSA) issued a proposed rule to amend the General Services Administration Acquisition Regulation to add clause 552.238-81, Modifications (Federal Supply Schedule), and an Alternate I version of the clause that will require electronic submission of modifications under Federal Supply Schedule contracts managed by GSA. The public reporting burdens associated with both the basic and Alternate I clauses are also being updated.

Completed:

Reason | Date | FR Cite
Final Rule | 03/13/14 | 79 FR 14182
Correction | 04/11/14 | 79 FR 20106
Correction Effective | 04/14/14
Final Rule Effective | 04/14/14

Regulatory Flexibility Analysis Required: Yes.

Agency Contact: Dana L. Munson, Phone: 202 357-9652, Email: dana.munson@gsa.gov.

RIN: 3090-AJ36

[FR Doc. 2014-13131 Filed 6-12-14; 8:45 am]

BILLING CODE 6820-34-P